CORPORATION FOR NATIONAL AND COMMUNITY SERVICE

Request for Information From Non-Federal Stakeholders: Grantee Match Requirements

AGENCY: Corporation for National and Community Service.

ACTION: Request for comment.

SUMMARY: In accordance with the Executive Order on advancing racial equity and support for underserved communities, the Corporation for National and Community Service, operating as AmeriCorps, is inviting public comment regarding grantee match (that is, the percentage share of non-AmeriCorps cash and in-kind contributions required to be raised by the grantee in support of the grant) from any interested party, including current and former AmeriCorps applicants and program award recipients and sponsors or funders, and organizations that considered, but ultimately did not apply for, AmeriCorps grants.

DATES: To be considered, written comments must be received electronically no later than June 10, 2022 11:59 p.m. Eastern Daylight Time (EDT).

ADDRESSES: Comments and any supporting attachments should be submitted online at http://www.regulations.gov; search for “Request for Information (RFI) from Non-Federal Stakeholders: Grantee Match Requirements.” They will be posted unchanged and viewable by the public. Please provide contact information or organization name on the web-based form for possible follow-up from AmeriCorps.

FOR FURTHER INFORMATION CONTACT: Sharron Tendai, Program Support Specialist, AmeriCorps at stendai@cns.gov or 202-606-3904.

SUPPLEMENTARY INFORMATION: Matching fund requirements are not unusual for Federal grants, but they vary across government agencies and programs. Match requires that a grantee share the funding load for their project or program that is (partially) funded by the agency. Policy reasons for match requirements include ensuring that Federal taxpayer dollars are leveraging non-agency contributions, supporting more programming by stretching agency dollars further, encouraging community engagement and investment in the grantee's activities, and promoting grantees' sustained financial health and the viability of their projects beyond the life of the grant.

Both AmeriCorps Seniors and AmeriCorps State and National have match requirements, established by Congress, for some of their grant opportunities, as do the Martin Luther King Jr. Day of Service and the Volunteer Generation Fund grant programs. In each case, the grantees may provide the match through cash or in-kind contributions. AmeriCorps Seniors and AmeriCorps State and National grant programs currently have some statutory and/or regulatory relief from match requirements. In accordance with Executive Order 13985 (Advancing Racial Equity and Support for Underserved Communities Through the Federal Government), issued on January 20, 2021, AmeriCorps is inviting public comment regarding grantee match requirements.

I. Request for Comment

AmeriCorps seeks input on the following:

1. What are the benefits, if any, of matching requirements?

2. What evidence, if any, supports (or does not support) the use of matching requirements?

3. What changes related to match requirements and alternative match schedules, if any, might be needed in order to:

a. Encourage more applicants to apply?

b. Make grantees more successful?

c. Allow applicants and grantees to reach underserved communities?

4. What changes, if any, to the criteria or timing for alternative match and/or match waiver requests and approvals might:

a. Encourage more applicants to apply?

b. Make grantees more successful?

c. Allow applicants and grantees to reach underserved communities?

5. What alternative approaches to the existing matching requirements would help meet the intended policy goals of community engagement and investment?

II. Context

A. Current Match Requirements

AmeriCorps Seniors

Congress established the match requirements for AmeriCorps Seniors programs in the Domestic Volunteer Service Act of 1973, as amended (DVSA), 45 U.S.C. 4950 et seq.

For the Foster Grandparent Program (FGP) and Senior Companion Program (SCP), the DVSA generally limits AmeriCorps' contributions to 90 percent of the costs of the development and operation of projects, effectively requiring grantee sponsors to contribute at least 10 percent of the total project cost. See 42 U.S.C. 5011(a). AmeriCorps' regulations specify that grantee sponsors must contribute 10 percent of the total project cost from non-Federal or authorized Federal sources for these programs. See 45 CFR 2552.92(a), 2551.92(a).

For the Retired and Senior Volunteer Program (RSVP), the statute generally limits the match required of grantees to 10 percent in the first year, 20 percent in the second year and 30 percent in subsequent years. See 42 U.S.C. 5001(b). AmeriCorps' regulations mirror this requirement, stating that RSVP grants may be awarded to fund up to 90 percent of the total project cost in the first year, 80 percent in the second year, and 70 percent in the third and succeeding years. See 45 CFR 2553.72(a).

AmeriCorps State and National

Congress established the match requirements for AmeriCorps State and National in the National and Community Service Act of 1990, as amended (NCSA), 42 U.S.C. 12501 et seq. The NCSA limits AmeriCorps' share of the cost of carrying out an AmeriCorps State and National program to 75 percent. See 42 U.S.C. 12571(e). However, Congress has, for several years through annual appropriations laws, revised this requirement. For example, in the Fiscal Year 2021 appropriations law, Congress provided that the grantees must meet an overall minimum share requirement of 24 percent for the first three years they receive AmeriCorps funding and in successive years must meet the requirements as provided for in AmeriCorps regulations at 45 CFR 2521.60. See Public Law 116-260, div. H, title IV, 402, December 27, 2020.

AmeriCorps regulations implement these requirements by requiring a 24 percent match for cost-reimbursement grants to first-time grantees for the first three-year funding period. Starting with year four, the match requirement gradually increases every year until it reaches 50 percent by year 10, as shown in the minimum overall share chart below. Match is calculated as a total of the over all budget (Federal share + grantee share.)

AmeriCorps Funding Year | 1, 2, 3 | 4 | 5 | 6 | 7 | 8 | 9 | 10+
Grantee Share Requirements | 24% | 26% | 30% | 34% | 38% | 42% | 46% | 50%

See 45 CFR 2521.45 and 2521.60(a).

AmeriCorps State and National—Commission Support Grants

Section 126(a) of the NCSA (42 U.S.C. 12576) authorizes AmeriCorps to make grants of $250,000 to $1,000,000 to support State Commissions annually, and requires the State to agree to provide matching funds from non-Federal sources of not less than $1 for every $1 provided by the Corporation through the grant.

Martin Luther King, Jr. Service Day

Section 198(i) of the NCSA (42 U.S.C. 12653(i)) authorizes AmeriCorps to make grants to support activities in honor of the life and teachings of Dr. Martin Luther King, Jr. The statute limits the Federal share to 30% of the cost of the service opportunity. There is currently no explicit relief for this match requirement in statute or regulation.

Volunteer Generation Fund

Section 198P(f) (42 U.S.C. 12653p(f)) authorizes AmeriCorps to make grants for volunteer programs. The statute limits the AmeriCorps share to 80% in year one, 70% in year two, 60% in year 3, and 50% in years four and beyond. There is currently no explicit relief for this match requirement in statute or regulation.

B. Match Waivers and Alternative Match Schedule

AmeriCorps Seniors

AmeriCorps may grant a match waiver to a grantee for any of the three AmeriCorps Seniors programs. See 42 U.S.C. 5001(b) (RSVP), 5011(a) (FGP), 5013(a) (SCP). AmeriCorps has established by regulation that it may grant a waiver of match requirements if it determines that at least one of the following criteria are met, based on information provided by the gprantee: Initial difficulties in the development of local funding sources during the first three years of operations; an economic downturn, a natural disaster, or similar events in the service area that severely restrict or reduce sources of local funding support; or the unexpected discontinuation of local support from one or more sources that a project has relied on for a period of years. See 45 CFR 2551.92 (SCP), 2552.92 (FGP), 2553.72 (RSVP).

AmeriCorps has designed a streamlined process for AmeriCorps Seniors to request individual match waivers in accordance with these regulatory criteria.

AmeriCorps State and National

Under certain circumstances, applicants/grantees in AmeriCorps State and National may qualify to meet alternative matching requirements that increase over the years to 35 percent instead of 50 percent as specified in the regulations. See 42 U.S.C. 12645(d); 42 U.S.C. 12576. To qualify, applicants/grantees must demonstrate that the proposed program is located in a rural county or in a severely economically distressed community. See 45 CFR 2521.60(b).

AmeriCorps may grant a match waiver for an AmeriCorps State and National grantee if it determines that the grantee has demonstrated all four of the following: There is a lack of resources at the local level; the lack of resources in the local community is unique or unusual; the grantee has made efforts to raise matching resources; and the grantee has raised a specified amount of matching resources or reasonably expects to raise that amount. See 45 CFR 2521.70. AmeriCorps has designed a streamlined process for AmeriCorps State and National Grantees to request individual match waivers in accordance with these regulatory criteria.

AmeriCorps State and National—Commission Support Grants

The CEO may permit a State Commission that demonstrates hardship, or a new State Commission, to meet alternative matching requirements for a commission support grant as follows:

(A) FIRST $100,000: For the first $100,000 of AmeriCorps grant funds, the State involved shall not be required to provide matching funds.

(B) AMOUNTS GREATER THAN $100,000: For AmeriCorps grants of more than $100,000 but not more than $250,000, the State shall agree to provide matching funds from non-Federal sources of not less than $1 for every $2 provided by AmeriCorps in excess of $100,000.

(C) AMOUNTS GREATER THAN $250,000: For AmeriCorps grants of more than $250,000, the State shall agree to provide matching funds from non-Federal sources of not less than $1 for every $1 provided by AmeriCorps, in excess of $250,000.

See 42 U.S.C. 12576; 45 CFR 2550.110.

Dated: April 29, 2022.
Anna Mecagni,
Chief of Program Operations.

[FR Doc. 2022-09587 Filed 5-4-22; 8:45 am]

BILLING CODE 6050-28-P